DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, October 21, 2015, from 8:30 a.m. until 5:00 p.m. Eastern Time, Thursday, October 22, 2015, from 8:30 a.m. until 5:00 p.m. Eastern Time, and Friday, October 23, 2015, from 8:30 a.m. until 12:00 p.m. Eastern Time. All sessions will be open to the public.

DATES: The meeting will be held on Wednesday, October 21, 2015, from 8:30 a.m. until 5:00 p.m. Eastern Time, Thursday, October 22, 2015, from 8:30 a.m. until 5:00 p.m. Eastern Time, and Friday, October 23, 2015, from 8:30 a.m. until 12:00 p.m. Eastern Time.

ADDRESSES: The meeting will take place at the U.S. Access Board, 1331 F Street NW., Suite 800, Washington, DC 20004.

FOR FURTHER INFORMATION CONTACT: Annie Sokol, Information Technology Laboratory, National Institute of Standards and Technology, 100 Bureau Drive, Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, October 21, 2015, from 8:30 a.m. until 5:00 p.m. Eastern Time, Thursday, October 22, 2015, from 8:30 a.m. until 5:00 p.m. Eastern Time, and Friday, October 23, 2015, from 8:30 a.m. until 12:00 p.m. Eastern Time. All sessions will be open to the public. The ISPAB is authorized by 15 U.S.C. 278g-4, as amended, and advises the National Institute of Standards and Technology (NIST), and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Presentation from U.S. Department of Homeland Security, National Protection and Programs Directorate,

—Updates from Deputy Undersecretary for Cybersecurity and Communications, U.S. Department of Homeland Security,

—Presentation from U.S. Department of Justice and Federal Bureau of Investigation on Information Collection—Going Dark Initiative—Overview, Challenges and Gaps,

—Updates on OMB Circular No. A-130 Revised, Management of Federal Information Resources,

—Discussion on cybersecurity from Federal Energy Regulatory Commission,

—Updates from Government Accountability Office on information security and privacy reports,

—Presentation from Federal Bureau of Investigation on information collection,

—Presentation from the Communications Security, Reliability and Interoperability Council (CSRIC) on Cybersecurity,

—Legislative Updates relating to cybersecurity,

—FedRAMP Updates on “High” baseline security controls,

—Presentation from U.S. Department of Justice on Cyber Norms,

—Discussion on Government adoption of Internet of Things,

—Follow-up discussion with National Telecommunication and Information Administration (NTIA) on Drones and Privacy,

—Discussion on Prevention of large-scale breaches in Federal Databases containing Personally Identifiable Information (PII), and

—Updates on NIST Computer Security Division.

Note that agenda items may change without notice. The final agenda will be posted at http://csrc.nist.gov/groups/SMA/ispab/index.html. Seating will be available for the public and media. No registration is required to attend this meeting.

Public Participation: The ISPAB agenda will include a period of time, not to exceed thirty minutes, for oral comments from the public (Friday, October 23, 2015, between 10:00 a.m. and 10:30 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Richard Cavanagh,
Acting Associate Director for Laboratory Programs.

[FR Doc. 2015-23081 Filed 9-14-15; 8:45 am]

BILLING CODE 3510-13-P